DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

EFFECTIVE DATE: October 3, 2007.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Pennsylvania

Installation Name: Samuel P. Serrenti Memorial USARC.

LRA Name: Scranton Redevelopment Authority.

Point of Contact: William J. Schoen, Executive Director, Scranton Redevelopment Authority.

Address: 538 Spruce Street, Suite 812, Scranton, PA 18503.

Phone: (570) 348-4216.

Texas

Installation Name: Naval Station Ingleside—Electro Magnetic Reduction Facility.

LRA Name: Ingleside Local Redevelopment Authority.

Point of Contact: Stella Herrmann, Chairman, Ingleside Local Redevelopment Authority.

Address: P.O. Box 891, Ingleside, TX 78362.

Phone: (361) 222-0789.

Dated: September 27, 2007.
L.M. Bynum,
OSD Federal Register Liaison Officer, Department of Defense.

[FR Doc. 07-4877 Filed 10-2-07; 8:45 am]

BILLING CODE 5001-06-M